DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, June 7 and 8, 2007, in Fortuna, California. On June 7, the council will convene at 10 a.m. at the River Lodge Meeting Center's “Monday Club,” 610 Main St., and depart for a field tour of public lands in the Headwaters Forest Reserve. On June 8, the council convenes at 8 a.m. at the Monday Club. The council will hear public comments at 11 a.m.

FOR FURTHER INFORMATION CONTACT: Lynda Roush, BLM Arcata Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics include a discussion of field office uses of Land and Water Conservation Fund allocations, a discussion of royalty receipts in the BLM geothermal energy program, a review of minerals management and products produced by each field office, an update on the Cow Mountain Management Plan, status report on the BLM Managing for Excellence Initiative, a report on development of the Lack's Creek Management Plan, and an update on the Sacramento River Bend Area of Critical Environmental Concern. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 14, 2007.
Joseph J. Fontana,
Public Affairs Officer.

[FR Doc. E7-5071 Filed 3-20-07; 8:45 am]

BILLING CODE 4310-40-P